FEDERAL COMMUNICATIONS COMMISSION

[FR ID 147101]

Deletion of Item From June 8, 2023 Open Meeting

June 6, 2023.

The following item was adopted and released by the Commission on June 5, 2023 and deleted from the list of items scheduled for consideration at the Thursday, June 8, 2023, Open Meeting. The item was previously listed in the Commission's Sunshine Notice on Thursday, June 1, 2023.

5 | Media | Title: Restricted Adjudicatory Matter. Summary: The Commission will consider a restricted adjudicatory matter.

Federal Communications Commission.
Marlene Dortch,
Secretary.

[FR Doc. 2023-12355 Filed 6-8-23; 8:45 am]

BILLING CODE 6712-01-P